DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket Number FRA-2008-0051

Applicant: Utah Transit Authority, Ms. Jennifer Rigby, General Counsel, 3600 South 700 West, P.O. Box 30810, Salt Lake City, Utah 84130.

The Utah Transit Authority (UTA) seeks relief from the requirements of the Rules, Standards, and Instructions, 49 CFR part 236, Section 236.513(a), Audible indicator, for its planned commuter rail system “FrontRunner,” to the extent that UTA be permitted to utilize a cab signal system that does not contain any onboard acknowledgment device beyond the acknowledgment received from movement of brake control(s). The location of the request is the entire current and planned FrontRunner system. Phase one will be approximately 44 miles between Pleasant View, in Weber County, and Salt Lake City, Utah.

Applicant's justification for relief:

(1) The installed cab signal system enforces the speed limit of the detected cab signal by first warning of, and if no action is taken, then immediately requesting an irrevocable penalty brake application when the vehicle speed is detected as being at or over the speed limit plus a pre-determined buffer.

(2) In the case of a cab signal aspect downgrade and the vehicle speed is above the new downgrade speed limit, the operator must, through his action, bring the vehicle speed to the new speed limit in accordance with prescribed parameters of the FrontRunner Timetable. If the operator fails to act accordingly to reduce the train's speed to the required limit, an alarm sounds continuously to warn of a pending penalty brake application. If there is no or insufficient action taken by the train operator to reduce the speed to the acceptable threshold within 4 seconds, an irrevocable penalty brake application is applied.

(3) In the case of a cab signal aspect downgrade and the vehicle speed is already below the new downgrade speed limit, the operator is only required to keep the vehicle speed below the new speed limit. In either case, the cab signal system sounds a momentary audible alarm to indicate that the cab signal aspect has changed. If there is no or insufficient action taken by the train operator to reduce the speed to the acceptable threshold within 4 seconds, an irrevocable penalty brake application is applied.

(4) In the case of no cab signal downgrade but the vehicle speed increases to a value above the speed limit plus the pre-determined buffer, the cab signal system requests an immediate, irrevocable, penalty brake application.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Any interested party desiring to protest the granting of an application shall set forth specifically the grounds upon which the protest is made, and it shall contain a concise statement of the interest of the party in the proceeding. Additionally, one copy of the protest shall be furnished to the applicant at the address listed above.

All communications concerning these proceedings should be identified by Docket Number FRA-2008-0051and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 6, 2008.
Grady C. Cothen, Jr.,
Deputy Associate Administrator for Safety Standards and Program Development.

[FR Doc. E8-10478 Filed 5-9-08; 8:45 am]

BILLING CODE 4910-06-P